NATIONAL AERONAUTICS AND SPACE ADMINISTRATION

14 CFR Part 1215

[Document Number NASA-21-058; Docket Number-NASA-2021-0005]

RIN 2700-AE62

Tracking and Data Relay Satellite System (TDRSS)

AGENCY: National Aeronautics and Space Administration.

ACTION: Direct final rule; nomenclature change.

SUMMARY: This direct final rule amends NASA's rule on Tracking and Data Relay Satellite System (TDRSS) to make nomenclature changes to update acronyms, network names, and office designations cited in the rule.

DATES: This direct final rule is effective on January 3, 2022. Comments due on or before December 3, 2021. If adverse comments are received, NASA will publish a timely withdrawal of the rule in the Federal Register.

ADDRESSES: Comments must be identified with RINs 2700-AE62 and may be sent to NASA via the Federal E-Rulemaking Portal: http://www.regulations.gov. Follow the online instructions for submitting comments. Please note that NASA will post all comments on the internet with changes, including any personal information provided.

FOR FURTHER INFORMATION CONTACT: Craig Salvas, 202-358-2330, craig.salvas@nasa.gov.

SUPPLEMENTARY INFORMATION:

I. Direct Final Rule and Significant Adverse Comments

NASA has determined this rulemaking meets the criteria for a direct final rule because it makes non-substantive changes to make nomenclature changes to update acronyms, network names, and office designations cited in the rule. No opposition to the changes and no significant adverse comments are expected. However, if NASA receives significant adverse comments, it will withdraw this direct final rule by publishing a notice in the Federal Register. A significant adverse comment is one that explains: (1) Why the direct final rule is inappropriate, including challenges to the rule's underlying premise or approach; or (2) why the direct final rule will be ineffective or unacceptable without a change. In determining whether a comment necessitates withdrawal of this direct final rule, NASA will consider whether it warrants a substantive response in a notice and comment process.

II. Background

TDRSS is a network of U.S. communication satellites and ground stations used by NASA for space communications near the Earth. The system was designed to increase the time spacecraft were in communication with the ground and improve the amount of data that could be transferred. The primary goal of TDRSS is to provide improved tracking and data acquisition services capability to spacecraft in low-Earth orbit or to mobile terrestrial users such as aircraft or balloons. NASA is amending this rule to make nomenclature changes to update acronyms, network names, and office designations cited in §§ 1215.103, 1215.108, and 1215.109.

III. Regulatory Analysis

Executive Order 12866, Regulatory Planning and Review and Executive Order 13563, Improvement Regulation and Regulation Review

Executive Orders (E.O.) 13563 and 12866 direct agencies to assess all costs and benefits of available regulatory alternatives and, if regulation is necessary, to select regulatory approaches that maximize net benefits (including potential economic, environmental, public health and safety effects, distributive impacts, and equity). E.O. 13563 emphasizes the importance of quantifying both costs and benefits, of reducing costs, of harmonizing rules, and of promoting flexibility. This rule has been designated as “not significant” under section 3(f) of E.O. 12866.

Review Under the Regulatory Flexibility Act

The Regulatory Flexibility Act (5 U.S.C. 601 et seq.) requires an agency to prepare an initial regulatory flexibility analysis to be published at the time the proposed rule is published. This requirement does not apply if the agency “certifies that the rule will not, if promulgated, have a significant economic impact on a substantial number of small entities” (5 U.S.C. 603). This rule makes nomenclature changes and, therefore, does not have a significant economic impact on a substantial number of small entities.

Review Under the Paperwork Reduction Act

These nomenclature changes do not contain any information collection requirements subject to the Paperwork Reduction Act of 1995 (44 U.S.C. 3501 et seq.).

Review Under E.O. 13132

E.O. 13132, “Federalism,” 64 FR 43255 (August 4, 1999), requires regulations to be reviewed for Federalism effects on the institutional interest of states and local governments, and, if the effects are sufficiently substantial, preparation of the Federal assessment is required to assist senior policy makers. The amendments will not have any substantial direct effects on state and local governments within the meaning of the E.O. Therefore, no Federalism assessment is required.

List of Subjects in 14 CFR Part 1215

Satellites.

Accordingly, under the authority of the National Aeronautics and Space Act, as amended, 51 U.S.C. 20113, NASA amends 14 CFR part 1215 as follows:

PART 1215—TRACKING AND DATA RELAY SATELLITE SYSTEM (TDRSS)

1. The authority citation for part 1215 continues to read as follows:

Authority: Sec. 203, Pub. L. 85-568, 72 Stat. 429, as amended; 42 U.S.C. 2473.

§§ 1215.103 1215.108, and 1215.109 [Amended]

2. In the table below, for each section indicated in the left column, remove the acronym, network name, or office designation indicated in the middle column from wherever it appears in the section, and add the acronym, network name, or office designation indicated in the right column:

Section | Remove | Add
1215.103 | Space Network | Near Space Network.
1215.103 | SNUG | NSNUG.
1215.103 | Networks Integration Management Office | Commercialization, Innovation, and Synergies.
1215.108 | SNUG | NSNUG.
1215.108 | NIMO | Near Space Network.
1215.108 | Networks Integration Management Office | Commercialization, Innovation, and Synergies.
1215.109 | NIMO | Near Space Network.

Nanette Smith,
Team Lead, NASA Directives and Regulations.

[FR Doc. 2021-23825 Filed 11-2-21; 8:45 am]

BILLING CODE 7510-13-P